DEPARTMENT OF HEALTH AND HUMAN SERVICES

Indian Health Service

Special Diabetes Program for Indians Competitive Grant Program; Correction

ACTION: Notice; correction.

SUMMARY: The Indian Health Service published a document in the Federal Register on May 28, 2004. The document contained six errors.

FOR FURTHER INFORMATION CONTACT: Denise Clark, Grants Management Branch, Indian Health Service, Reyes Building, 801 Thompson Avenue, Rockville, MD 20852, Telephone (301) 443-5204. (This is not a toll-free number.)

Correction

In the Federal Register of May 28, 2004, in FR Doc. 04-12083, on page 30674, in the third column, section I, item 4 under Eligible Applicants, change the 1st sentence to read “SDPI grant recipients and SDPI grant sub-recipients (Tribes who are members of a tribal consortium) are eligible to apply for the SDPI Competitive Grant Program if they are one of the following entities:”. On page 30677, in the third column, correct the deadline date of “July 1, 2004” in section B. to read “July 15, 2004”. On page 30678, in the first column, section III, item 1 under Eligible Applicants change the 1st sentence to read “Applicants eligible to receive an award under this announcement are SDPI grantees and SDPI grantee sub recipients.”. On page 30681, in the second column, Application Due Date, correct “M.D.T.” to “E.D.T.”. On page 30682, in the first column, under Other Submission Requirements, in the third paragraph, correct the number “222214” to “3”. And on page 30682, in the first column, Application Review Information, correct the SF number to read “SF 424”.

Dated: June 21, 2004.
Charles W. Grim,
Assistant Surgeon General, Director, Indian Health Service.

[FR Doc. 04-14646 Filed 6-28-04; 8:45 am]

BILLING CODE 4160-16-M